DEPARTMENT OF COMMERCE

International Trade Administration

[A-570-012, C-570-013]

Carbon and Certain Alloy Steel Wire Rod From the People's Republic of China: Continuation of Antidumping and Countervailing Duty Orders

AGENCY: Enforcement and Compliance, International Trade Administration, Department of Commerce.

SUMMARY: As a result of the determinations by the Department of Commerce (Commerce) and the International Trade Commission (ITC) that revocation of the antidumping (AD) and countervailing duty (CVD) orders on carbon and certain alloy steel wire rod from the People's Republic of China (China) would likely lead to continuation or recurrence of dumping, countervailable subsidies, and material injury to an industry in the United States, Commerce is publishing a notice of continuation of these AD and CVD orders.

DATES: Applicable June 26, 2020.

FOR FURTHER INFORMATION CONTACT: Ian Hamilton, AD/CVD Operations, Enforcement and Compliance, International Trade Administration, U.S. Department of Commerce, 1401 Constitution Avenue NW, Washington, DC 20230; telephone: (202) 482-4798.

SUPPLEMENTARY INFORMATION:

Background

On January 8, 2015, Commerce published both the AD and CVD orders on carbon and certain alloy steel wire rod from China.¹ On December 2, 2019, the ITC instituted,² and on Commerce initiated,³ the five-year (sunset) reviews of the AD and CVD orders on carbon and certain alloy steel wire rod from China, pursuant to section 751(c) of the Tariff Act of 1930, as amended (the Act). As a result of its reviews, Commerce determined that revocation of the Orders on carbon and certain alloy steel wire rod from China would be likely to lead to continuation or recurrence of dumping and countervailable subsidies and, therefore, notified the ITC of the magnitude of the margins and net subsidy rates likely to prevail should the Orders be revoked.⁴ On June 19, 2020, the ITC published its determinations, pursuant to sections 751(c) and 752(a) of the Act, that revocation of the Orders would likely lead to continuation or recurrence of material injury to an industry in the United States within a reasonably foreseeable time.⁵

¹ See Carbon and Certain Alloy Steel Wire Rod from the People's Republic of China: Antidumping Duty Order, 80 FR 1015 (January 8, 2015); see also Carbon and Certain Alloy Steel Wire Rod from the People's Republic of China: Amended Final Affirmative Countervailing Duty Determination and Countervailing Duty Order, 80 FR 1018 (January 8, 2015) (collectively, Orders).

² See Carbon and Certain Alloy Steel Wire Rod from China; Institution of Five-Year Reviews, 84 FR 66007 (December 2, 2019).

³ See Initiation of Five-Year (Sunset) Reviews, 84 FR 65968 (December 2, 2019).

⁴ See Carbon and Certain Alloy Steel Wire Rod from the People's Republic of China: Final Results of the Expedited First Five-Year Sunset Review of the Countervailing Duty Order, 85 FR 17533 (March 30, 2020), and accompanying Issues and Decision Memorandum (IDM); and Carbon and Certain Alloy Steel Wire Rod from the People's Republic of China: Final Results of the Expedited First Five-Year Sunset Review of the Antidumping Duty Order, 85 FR 19136 (April 6, 2020), and accompanying IDM.

⁵ See Carbon and Alloy Steel Wire Rod from China (Inv. Nos. 701-TA-512 and 731-TA-1248 (Review)), 85 FR 37108 (June 19, 2020); see also Carbon and Alloy Steel Wire Rod from China (Inv. Nos. 701-TA-512 and 731-TA-1248 (Review)), USITC Pub. 5064 (June 2020).

Scope of the Orders

The merchandise covered by these Orders is certain hot-rolled products of carbon steel and alloy steel, in coils, of approximately circular cross section, less than 19.00 mm in actual solid cross-sectional diameter. Specifically excluded are steel products possessing the above-noted physical characteristics and meeting the Harmonized Tariff Schedule of the United States (HTSUS) definitions for (a) stainless steel; (b) tool steel; (c) high nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorus, more than 0.05 percent of selenium, or more than 0.01 percent of tellurium). All products meeting the physical description of subject merchandise that are not specifically excluded are included in this scope.

The products subject to these Orders are currently classifiable under subheadings 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the merchandise covered by these Orders is dispositive.

Continuation of the Orders

As a result of the determinations by Commerce and the ITC that revocation of the Orders would likely lead to a continuation or a recurrence of dumping and countervailable subsidies and of material injury to an industry in the United States, pursuant to section 751(d)(2) of the Act and 19 CFR 351.218(a), Commerce hereby orders the continuation of the Orders. U.S. Customs and Border Protection will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and this notice are in accordance with sections 751(c) and (d)(2) of the Act and published in accordance with section 777(i) of the Act, and 19 CFR 351.218(f)(4). Note that Commerce has modified certain of its requirements for serving documents containing business proprietary information, until July 17, 2020, unless extended.⁶

⁶ See Temporary Rule Modifying AD/CVD Service Requirements Due to COVID-19; Extension of Effective Period, 85 FR 29615 (May 18, 2020).

Dated: June 22, 2020.
Jeffrey I. Kessler,
Assistant Secretary for Enforcement and Compliance.

[FR Doc. 2020-13811 Filed 6-25-20; 8:45 am]

BILLING CODE 3510-DS-P